DEPARTMENT OF THE INTERIOR

Bureau of Land Management

[BLM_AZ_FRN_MO4500168371 AZA-38291]

Notice of Withdrawal Application and Opportunity for a Public Meeting for the Prescott National Forest/Hassayampa River, Arizona

AGENCY: Bureau of Land Management, Interior.

ACTION: Notice.

SUMMARY: The United States Forest Service (USFS) has filed an application with the Bureau of Land Management (BLM) requesting that the Secretary of the Interior withdraw 3,739 acres of National Forest System (NFS) lands located within the Prescott National Forest from location and entry under the U.S. mining laws, and from leasing under the mineral and geothermal leasing laws, for a 20-year term, subject to valid existing rights. The purpose of the withdrawal requested is to protect the Hassayampa River Riparian Corridor, located in Yavapai County, Arizona, from potential adverse impacts from mining, mineral, and geothermal leasing. Publication of this notice temporarily segregates the lands for up to two years, initiates a 90-day public comment period, and announces to the public an opportunity to request a public meeting on the withdrawal application.

DATES: Comments and requests for a public meeting must be received by September 5, 2023.

ADDRESSES: All comments or requests for a public meeting should be sent to the BLM Arizona State Office, 1 North Central Avenue, Suite 800, Phoenix, AZ 85004; faxed to (602) 417-9452; or sent by email to BLM_AZ_Withdrawal_Comments@blm.gov. The BLM will not consider comments via telephone calls.

FOR FURTHER INFORMATION CONTACT: Michael Ouellett, Realty Specialist, BLM Arizona State Office, telephone (602) 417-9561, email at mouellett@blm.gov; or you may contact the BLM office at the address noted above. Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: The USFS requests the 20-year term withdrawal to protect the Hassayampa River riparian corridor located on NFS lands. The subject lands are located within the Prescott National Forest. This request is for a new withdrawal encompassing 1,677.25 acres of NFS lands previously withdrawn by Public Land Order (PLO) No. 7414 (expired October 11, 2019), and an additional 2,061.75 acres of this riparian corridor that the USFS has identified as also needing protection.

The following described NFS lands are the subject of the USFS's withdrawal application and are temporarily segregated for a period of up to two years from location and entry under the U.S. mining laws, and from leasing under the mineral and geothermal leasing laws, subject to valid existing rights. The lands remain open to such uses as may be made on NFS lands:

Gila and Salt River Meridian, Arizona

T. 12½ N., R. 2 W.,

Sec. 19, lots 5 and 6, and M.S. No. 2835;

Sec. 20, lots 1 thru 4;

Sec. 21, lots 1 thru 4, SE¼SW¼, and S½SE¼;

Sec. 22, lots 1 thru 4, and S½SW¼;

Sec. 23, lot 4;

Sec. 26, lot 4, lots 8 thru 17, and M.S. No. 4051, excepting that portion of M.S. No. 4051 within M.S. No. 3986, and that portion of Tract No. 0059, recorded in Book 96 of land surveys, Page 73, in the official records of Yavapai County, Arizona.

Sec. 27, lots 1 thru 6, W½NW¼, and M.S. No. 4051;

Sec. 28, N½NE¼, NE¼NW¼;

Sec. 30, lots 1, 2, 4, 6 thru 8, S½NE¼, SE¼SW¼, W½SE¼, and M.S. No. 2835;

Sec. 35, lots 2, 3, 9, and M.S. No. 2648, except that portion of M.S. No. 2648, as excepted in the Warranty Deed to the U.S.A., recorded in Book 1051, Pages 550-553, in the official records of Yavapai County, Arizona.

T. 13 N., R. 2 W.,

Sec. 28, lots 13, 16, 18, and 21;

Sec. 31, lot 20, excepting M.S. No. 2025;

Sec. 32, lots 5 thru 7 and lots 10 thru 20;

Sec. 33, lots 2 thru 6 and lots 9 thru 16;

Sec. 34, lot 18;

Sec. 35, lot 15.

T. 12½ N., R. 3 W.,

Sec. 23, lot 1, 2, those portions lying easterly and southerly of a line which lies 300 feet easterly and southerly of and parallel with the centerline of Arizona State Highway No. 89, per Public Land Order No. 1556 of November 19, 1957, and lot 5;

Sec. 24, lot 5;

Sec. 25, lots 4 and 5, SE¼SW¼, NE¼SE¼, and S½SE¼, excepting M.S. No. 4056;

Sec. 36, lots 1, 2, 6, 7 and 8, and NE¼SE¼.

The areas described aggregate 3,739 acres.

The use of a right-of-way, interagency agreement, or cooperative agreement would not provide adequate protection of the specified lands.

No additional water rights are needed to fulfill the purpose of this requested withdrawal.

There are no suitable alternative sites since the requested withdrawal area is for the protection of the unique natural resources of the Hassayampa River riparian corridor.

Before including your address, phone number, email address, or other personal identifying information in your comment, you should be aware that your entire comment, including your personal identifying information, may be made publicly available at any time. While you can ask us in your comment to withhold your personal identifying information from public review, we cannot guarantee that we will be able to do so.

Notice is hereby given that an opportunity for a public meeting is afforded in connection with the requested withdrawal. All interested persons who desire a public meeting for the purpose of being heard on the requested withdrawal must submit a written request to the BLM Arizona State Director no later than September 5, 2023. If the authorized officer determines that a public meeting will be held, a notice of the time, date, and place will be published in the Federal Register and a local newspaper at least 30 days before the scheduled date of the meeting.

For a period until June 5, 2025 the lands will be segregated as specified above unless the application is denied or canceled.

This application will be processed in accordance with the regulations at 43 CFR 2300.

Authority: 43 U.S.C. 1714(b)(1) and 43 CFR 2310.3-1.

Raymond Suazo,
State Director.

[FR Doc. 2023-11998 Filed 6-5-23; 8:45 am]

BILLING CODE 3411-15-P